DEPARTMENT OF TRANSPORTATION

Federal Aviation Administration

14 CFR Part 39

[Docket No. FAA-2005-23282; Directorate Identifier 2005-NM-210-AD; Amendment 39-14496; AD 2006-04-14]

RIN 2120-AA64

Airworthiness Directives; Boeing Model 757-200 and -300 Series Airplanes

AGENCY: Federal Aviation Administration (FAA), Department of Transportation (DOT).

ACTION: Final rule.

SUMMARY: The FAA is adopting a new airworthiness directive (AD) for certain Boeing Model 757-200 and -300 series airplanes. This AD requires installing clamps on certain end caps of the overhead distribution ducts, and doing other specified and related investigative actions as necessary. This AD results from finding that the end caps of the overhead distribution ducts for the air conditioning system were not bonded to the ducts with an adhesive. We are issuing this AD to detect and correct loosened end caps, which could change the air flow balance in the airplane. During a smoke event in the cargo or main electronics compartment, the incorrect balance of air flow could change the smoke clearance air capacity and result in smoke and toxic fumes penetrating the flight deck and main cabin.

DATES: This AD becomes effective April 3, 2006.

The Director of the Federal Register approved the incorporation by reference of certain publications listed in the AD as of April 3, 2006.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Barbara Mudrovich, Aerospace Engineer, Cabin Safety and Environmental Systems Branch, ANM-150S, FAA, Seattle Aircraft Certification Office, 1601 Lind Avenue, SW., Renton, Washington 98055-4056; telephone (425) 917-6477; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 757-200 and -300 series airplanes. That NPRM was published in the Federal Register on December 13, 2005 (70 FR 73663). That NPRM proposed to require installing clamps on certain end caps of the overhead distribution ducts, and doing other specified and related investigative actions as necessary.

Comments

We provided the public the opportunity to participate in the development of this AD. We have considered the comment received. The single commenter, Boeing, supports the NPRM.

Conclusion

We have carefully reviewed the available data, including the comment received, and determined that air safety and the public interest require adopting the AD as proposed.

Costs of Compliance

There are about 63 airplanes of the affected design in the worldwide fleet. This AD will affect about 37 airplanes of U.S. registry. The actions will take about 1 work hour per airplane, at an average labor rate of $65 per work hour. Required parts will cost between $20 and $40 per airplane, depending on airplane configuration. Based on these figures, the estimated cost of the AD for U.S. operators is between $3,145 and $3,885, or between $85 and $105 per airplane, depending on airplane configuration.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-14 Boeing: Amendment 39-14496. Docket No. FAA-2005-23282; Directorate Identifier 2005-NM-210-AD.

Effective Date

(a) This AD becomes effective April 3, 2006.

Affected ADs

(b) None.

Applicability

(c) This AD applies to airplanes identified in paragraphs (c)(1) and (c)(2) of this AD, certificated in any category.

(1) Boeing Model 757-200 series airplanes, having certain variable numbers as identified in Boeing Special Attention Service Bulletin 757-21-0106, dated March 24, 2005.

(2) Boeing Model 757-300 series airplanes, having certain variable numbers as identified in Boeing Special Attention Service Bulletin 757-21-0107, dated March 24, 2005.

Unsafe Condition

(d) This AD results from finding that the end caps of the overhead distribution ducts for the air conditioning system were not bonded to the ducts with an adhesive. We are issuing this AD to detect and correct loosened end caps, which could change the air flow balance in the airplane. During a smoke event in the cargo or main electronics compartment, the incorrect balance of air flow could change the smoke clearance air capacity and result in smoke and toxic fumes penetrating the flight deck and main cabin.

Compliance

(e) You are responsible for having the actions required by this AD performed within the compliance times specified, unless the actions have already been done.

Service Bulletin References

(f) The term “service bulletin,” as used in this AD, means the Accomplishment Instructions of the following service bulletins, as applicable:

(1) For Model 757-200 series airplanes: Boeing Special Attention Service Bulletin 757-21-0106, dated March 24, 2005; and

(2) For Model 757-300 series airplanes: Boeing Special Attention Service Bulletin 757-21-0107, dated March 24, 2005.

Install Clamps

(g) Within 12,000 flight hours or 36 months after the effective date of this AD, whichever is first: Install clamps on the end caps of the overhead distribution ducts of the air conditioning system at stations 864.88, 864.9, 866.6, and 875, as applicable, and before further flight do other specified and related investigative actions as applicable, by doing all of the applicable actions specified in the service bulletin.

Alternative Methods of Compliance (AMOCs)

(h)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use Boeing Special Attention Service Bulletin 757-21-0106, dated March 24, 2005; or Boeing Special Attention Service Bulletin 757-21-0107, dated March 24, 2005; as applicable, to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., room PL-401, Nassif Building, Washington, DC; on the Internet at http://dms.dot.gov; or at the National Archives and Records Administration (NARA).

For information on the availability of this material at the NARA, call (202) 741-6030, or go to http://www.archives.gov/federal_register/code_of_federal_regulations/ibr_locations.html.

Issued in Renton, Washington, on February 15, 2006.
Michael Zielinski,
Acting Manager, Transport Airplane Directorate, Aircraft Certification Service.

[FR Doc. 06-1694 Filed 2-24-06; 8:45 am]

BILLING CODE 4910-13-P